DEPARTMENT OF AGRICULTURE

Forest Service

Flathead County Resource Advisory Committee

AGENCY: Forest Service, USDA.

ACTION: Notice of meeting.

SUMMARY: The Flathead County Resource Advisory Committee will meet in Kalispell, Montana April 14th and April 27th. The purpose of these meetings is to discuss future RAC projects and the filling of the Chairperson and vacant member/alternate positions.

DATES: The meeting will be held from 4 p.m. to 6 p.m.

ADDRESSES: The meetings will be held at the Flathead County Commissioner's Office, Commissioner's Conference Room, 800 South Main, Kalispell, Montana 59901.

FOR FURTHER INFORMATION CONTACT: Kaaren Arnoux, Flathead National Forest, Administration Assistant, (406) 758-5251.

SUPPLEMENTARY INFORMATION: The meeting is open to the public. Time will be available for public input on potential projects the committee may be discussing.

Denise Germann,
Public Affairs Specialist.
Cathy Barbouletos,
Forest Supervisor.

[FR Doc. 04-6770 Filed 3-25-04; 8:45 am]

BILLING CODE 3410-11-M